DEPARTMENT OF THE INTERIOR

[Docket No. ONRR-2012-0003]

U.S. Extractive Industries Transparency Initiative Final Stakeholder Assessment and Multi-Stakeholder Group Findings

AGENCY: Office of the Secretary, Interior.

ACTION: Notice.

SUMMARY: The U.S. Department of the Interior (Interior) has retained an independent facilitator, the Consensus Building Institute (CBI), to conduct a stakeholder assessment as part of the U.S. Extractive Industries Transparency Initiative (USEITI) implementation process. On July 11, 2012, Interior received CBI's final assessment regarding options for forming a U.S. multi-stakeholder group that will be responsible for determining the implementation of USEITI. By this notice, Interior is notifying the public of the availability on our Web site of CBI's final stakeholder assessment and findings regarding establishment of the U.S. multi-stakeholder group.

FOR FURTHER INFORMATION CONTACT: Matthew Williams, telephone (202) 254-5573, fax number (202) 254-5589, email matt.williams@onrr.gov.

SUPPLEMENTARY INFORMATION: On February 24, 2012 (74 FR 11151), Interior published a notice in the Federal Register seeking public comment on the formation of a multi-stakeholder group to implement USEITI. In that notice, Interior stated that it would hold a series of public listening sessions to provide additional opportunities for public comment. In March, Interior held those listening sessions in St. Louis, Missouri; Denver, Colorado; Houston, Texas; and Washington, DC. CBI analyzed the input from these four public listening sessions, interviews with potential stakeholders, and written comments submitted to Interior. The input formed the basis of CBI's draft independent stakeholder assessment and finding regarding options for establishing the U.S. multi-stakeholder group. On May 3, 2012 (77 FR 26315), Interior published a notice in the Federal Register announcing a public comment period, from May 18-June 29, 2012, seeking feedback on CBI's draft stakeholder assessment and the recommended options for establishing the U.S. multi-stakeholder group, which was published on May 18, 2012. As part of the comment period, Interior held three public listening sessions in Anchorage, Alaska; Pittsburg, Pennsylvania; and New Orleans, Louisiana; a public webinar; and a public workshop on June 22, 2012, in Washington, DC. CBI analyzed the input from these public listening sessions, written comments submitted to Interior, and the input provided and issues raised by stakeholders at the June 22, 2012, USEITI public workshop. This input formed the basis of CBI's final stakeholder assessment and findings regarding establishment of the U.S. multi-stakeholder group.

Interior published and made available all comments received during the public comment periods, online at http://www.doi.gov/EITI. Starting on July 10, 2012, CBI's final assessment will be available online at http://www.doi.gov/EITI. You may request a copy of the assessment from Matthew Williams through the contact information above.

Background: In September 2011, President Barack Obama announced the United States' commitment to participate in the Extractive Industries Transparency Initiative. EITI is a signature initiative of the U.S. National Action Plan for the international Open Government Partnership and offers a voluntary framework for governments and companies to publicly disclose in parallel the revenues paid and received for extraction of oil, gas, and minerals that belong to the State. The design of each framework is country-specific, and is the result of a multi-year, consensus-based process by a multi-stakeholder group comprised of government, industry, and civil society representatives. On October 25, President Obama named Secretary of the Interior Ken Salazar as the U.S. Senior Official responsible for implementing USEITI. In response, Secretary Salazar posted a White House blog the same day, committing to work with industry and civil society to implement USEITI.

For further information on EITI, please visit the USEITI Web page at http://www.doi.gov/EITI.

Dated: July 2, 2012.
Amy Holley,
Acting Assistant Secretary for Policy, Management and Budget.

[FR Doc. 2012-16923 Filed 7-10-12; 8:45 am]

BILLING CODE 4310-T2-P